DEPARTMENT OF THE INTERIOR

National Park Service

[NPS-WASO-OIA-11846; PIN00IO14.XI0000]

Submission of U.S. Nomination to the World Heritage List

AGENCY: National Park Service, Interior.

ACTION: Notice.

SUMMARY: The Department of the Interior is submitting a nomination to the World Heritage List for the Monumental Earthworks of Poverty Point in West Carroll Parish, Louisiana. This is the third notice required by the National Park Service's World Heritage Program regulations.

DATES: The World Heritage Committee will likely consider the nomination at its 38th annual session in mid-2014.

FOR FURTHER INFORMATION CONTACT: Stephen Morris, Chief, Office of International Affairs at 202-354-1803 or Jonathan Putnam, International Cooperation Specialist at 202-354-1809. Complete information about U.S. participation in the World Heritage Program and the process used to develop the U.S. World Heritage Tentative List is posted on the National Park Service, Office of International Affairs Web site at: http://www.nps.gov/oia/topics/worldheritage/worldheritage.htm.

To request paper copies of documents discussed in this notice, please contact April Brooks, Office of International Affairs, National Park Service, 1201 Eye Street NW., (0050) Washington, DC 20005; Email: April_Brooks@nps.gov.

SUPPLEMENTARY INFORMATION: This constitutes the official notice of the decision by the United States Department of the Interior to submit a nomination to the World Heritage List for “Monumental Earthworks of Poverty Point” in West Carroll Parish, Louisiana, and serves as the Third Notice referred to in 36 CFR 73.7(j) of the World Heritage Program regulations (36 CFR part 73).

The nomination is being submitted through the U.S. Department of State to the World Heritage Centre of the United Nations Educational, Scientific and Cultural Organization (UNESCO) for consideration by the World Heritage Committee, which will likely occur at the Committee's 38th annual session in mid-2014.

This property has been selected from the U.S. World Heritage Tentative List. The Tentative List consists of properties that appear to qualify for World Heritage status and which may be considered for nomination by the United States to the World Heritage List.

The U.S. World Heritage Tentative List appeared in a Federal Register notice on December 14, 2010 (73 FR 77901-77903), with a request for public comment on possible nominations from the 13 sites on the Tentative List. A summary of the comments received, the Department of the Interior's responses to them and the Department's decision to request preparation of this nomination appeared in a subsequent Federal Register Notice published on July 14, 2011 (76 FR 41517-41521). These are the First and Second Notices required by 36 CFR 73.7(c) and (f).

In making the decision to submit this U.S. World Heritage nomination, pursuant to 36 CFR 73.7(h) and (i), the Department's Assistant Secretary for Fish and Wildlife and Parks evaluated the draft nomination and the recommendations of the Federal Interagency Panel for World Heritage. She determined that the property meets the prerequisites for nomination by the United States to the World Heritage List that are detailed in 36 CFR part 73. It is nationally significant, having been designated by Congress as a National Monument and by the Department of the Interior as a National Historic Landmark. The owner of the site, the State of Louisiana, has concurred in writing with the nomination, and the property, a State Historic Site, is well protected legally and functionally, as documented in the nomination. It appears to meet at least one of the World Heritage criteria.

The Monumental Earthworks of Poverty Point are nominated under World Heritage cultural criterion (iii) as provided in 36 CFR 73.9(b), as an exceptional testimony to the vanished culture of the people who lived in the Lower Mississippi Valley 2,500-4,000 years ago. Located in northeastern Louisiana on a bayou of the Mississippi, the site is a vast, integrated complex of earthen monuments, constructed 3,100-3,700 years ago. It consists of six enormous, concentric earthen ridges with an outer diameter of more than a half mile, and several large mounds, including one of the largest in North America. This constructed landscape was the largest and most elaborate of its time on the continent; the particular form of the complex is not duplicated anywhere else in the world. Even more significantly and unusually, it was built by a settlement of hunter-gatherers, not agricultural people, which challenges some conventional assumptions about what such a society could achieve.

The World Heritage List is an international list of cultural and natural properties nominated by the signatories to the World Heritage Convention (1972). The United States was the prime architect of the Convention, an international treaty for the preservation of natural and cultural heritage sites of global significance proposed by President Richard M. Nixon in 1972, and the U.S. was the first nation to ratify it. The World Heritage Committee, composed of representatives of 21 nations elected as the governing body of the World Heritage Convention, makes the final decisions on which nominations to accept on the World Heritage List at its annual meeting each summer. The United States has served four terms on the World Heritage Committee, but is not currently a member.

There are 962 World Heritage sites in 157 of the 190 signatory countries. The United States has 21 sites inscribed on the World Heritage List.

U.S. participation and the role of the Department of the Interior are authorized by Section 401 of Title IV of the Historic Preservation Act Amendments of 1980, (16 U.S.C. 470a-1), and conducted by the Department through the National Park Service in accordance with the regulations at 36 CFR part 73 which implement the Convention pursuant to the 1980 Amendments. The Department of the Interior has the lead role for the U.S. Government in the implementation of the Convention; the National Park Service serves as the principal technical agency within the Department for World Heritage matters and manages all or parts of 17 of the 21 U.S. World Heritage Sites.

The World Heritage Committee's Operational Guidelines require participating nations to provide tentative lists, which aid in evaluating properties for the World Heritage List on a comparative international basis and help the Committee to schedule its work. The current U.S. Tentative List was transmitted to the UNESCO World Heritage Centre on January 24, 2008.

Neither inclusion in the Tentative List nor inscription as a World Heritage Site imposes legal restrictions on owners or neighbors of sites, nor does it give the United Nations any management authority or ownership rights in U.S. World Heritage Sites, which continue to be subject only to U.S. federal and local laws, as applicable.

Dated: December 12, 2012.
Rachel Jacobson,
Principal Deputy Assistant Secretary for Fish and Wildlife and Parks.

[FR Doc. 2013-00918 Filed 1-16-13; 8:45 am]

BILLING CODE 4312-52-P